DEPARTMENT OF HEALTH AND HUMAN SERVICES

National Institutes of Health

Center for Scientific Review; Amended Notice of Meeting

Notice is hereby given of a change in the meeting of the Center for Scientific Review Special Emphasis Panel, Cellular and Molecular Aspects of the Blood-Brain Barrier and Neurovascular System and Therapeutic Strategies, August 07, 2025, 09:00 a.m. to August 07, 2025, 05:30 p.m., National Institutes of Health, Rockledge II, 6701 Rockledge Drive, Bethesda, MD, 20892 which was published in the Federal Register on July 02, 2025, 90 FR 29030, Doc.2025-12382

This meeting is being amended to change the contact person from Eric Tucker to Jacek Topczewski, Ph.D., Scientific Review Officer, Center for Scientific Review, National Institutes of Health, Bethesda, MD 20892, topczewskij2@csr.nih.gov. The meeting is closed to the public.

Dated: July 16, 2025.
Bruce A. George,
Program Analyst, Office of Federal Advisory Committee Policy.

[FR Doc. 2025-13585 Filed 7-18-25; 8:45 am]

BILLING CODE 4140-01-P